DEPARTMENT OF TRANSPORTATION

Federal Aviation Administration

14 CFR Part 39

[Docket No. FAA-2008-1241; Directorate Identifier 2008-NM-121-AD; Amendment 39-15754; AD 2006-20-51 R1]

RIN 2120-AA64

Airworthiness Directives; Boeing Model 777-200LR Series Airplanes Powered by General Electric (GE) Model GE90-110B Engines, and Model 777-300ER Series Airplanes Powered by GE Model GE90-115B Engines

AGENCY: Federal Aviation Administration (FAA), DOT.

ACTION: Final rule; request for comments.

SUMMARY: We are revising an existing airworthiness directive (AD) that applies to certain Boeing Model 777-200LR and -300ER series airplanes. That AD currently requires revising the airplane flight manual to prohibit takeoffs at less than full-rated thrust. This new AD reduces the applicability of the existing AD. This AD results from a report of two occurrences of engine thrust rollback during takeoff. We are issuing this AD to prevent dual-engine thrust rollback during the takeoff phase of flight, which could result in the airplane failing to lift off before reaching the end of the runway or failing to clear obstacles below the takeoff flight path.

DATES: This AD is effective January 6, 2009.

We must receive comments on this AD by February 2, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Margaret Langsted, Aerospace Engineer, Propulsion Branch, ANM-140S, FAA, Seattle Aircraft Certification Office, 1601 Lind Avenue, SW., Renton, Washington 98057-3356; telephone (425) 917-6500; fax (425) 917-6590.

SUPPLEMENTARY INFORMATION:

Discussion

On October 2, 2006, we issued AD 2006-20-51, amendment 39-14786 (71 FR 59651, October 11, 2006), for certain Boeing Model 777-200LR and -300ER series airplanes. That AD requires revising the airplane flight manual to prohibit takeoffs at less than full-rated thrust. That AD resulted from a report of two occurrences of engine thrust rollback (reduction) during takeoff. We issued that AD to prevent dual-engine thrust rollback, which could result in the airplane failing to lift off before reaching the end of the runway or failing to clear obstacles below the takeoff flight path.

Actions Since Existing AD Was Issued

Since issuance of AD 2006-20-51, Boeing has informed us that no U.S.-registered airplanes have full authority digital engine control (FADEC) software version A.0.4.5 installed, and that software version A.0.4.6 is being installed in production. In addition, we have determined that the affected airplanes are limited to those subject to the identified unsafe condition with FADEC electronic engine control (EEC) software version A.0.4.5 installed. We have also determined that FADEC software version A.0.4.6 has incorporated software revisions that prevent the reported roll-back conditions from occurring. Therefore, we also have determined that the applicability of AD 2006-20-51 can be revised to apply only to affected airplanes equipped with FADEC software version A.0.4.5.

FAA's Determination and Requirements of This AD

No airplanes affected by this AD are on the U.S. Register. We are issuing this AD because the unsafe condition described previously is likely to exist or develop on other products of the(se) same type design(s) that could be registered in the United States in the future. This AD revises AD 2006-20-51. This AD retains the requirements of the existing AD and reduces the applicability of the existing AD.

Since no U.S. registered airplanes are affected by this AD, notice and opportunity for public comment before issuing this AD are unnecessary.

Interim Action

We consider the requirements of this AD “interim action.” The manufacturer is developing a modification to address the unsafe condition (i.e., decreased takeoff thrust). We might consider further rulemaking if a modification is developed, approved, and available.

Comments Invited

This AD is a final rule that involves requirements affecting flight safety, and we did not provide you with notice and an opportunity to provide your comments before it becomes effective. However, we invite you to send any written data, views, or arguments about this AD. Send your comments to an address listed under the ADDRESSES section. Include “Docket No. FAA-2008-1241; Directorate Identifier 2008-NM-121-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD docket.

List of Subjects in 14 CFR Part 39

Air transportation, Aircraft, Aviation safety, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing amendment 39-14786 (71 FR 59651, October 11, 2006) and adding the following new AD:

2006-20-51-R1 Boeing: Amendment 39-15754. Docket No. FAA-2008-1241; Directorate Identifier 2008-NM-121-AD.

Effective Date

(a) This airworthiness directive (AD) is effective January 6, 2009.

Affected ADs

(b) This AD revises AD 2006-20-51.

Applicability

(c) This AD applies to airplanes in Table 1 of this AD, certificated in any category.

Table 1—Applicability
Boeing model— | Powered by General Electric (GE) model— | Equipped with full authority digital engine control software version—
(1) 777-200LR series airplanes | GE90-110B engines | A.0.4.5
(2) 777-300ER series airplanes | GE90-115B engines | A.0.4.5

Unsafe Condition

(d) This AD results from a report of two occurrences of engine thrust rollback during takeoff. We are issuing this AD to prevent dual-engine thrust rollback during the takeoff phase of flight, which could result in the airplane failing to lift off before reaching the end of the runway or failing to clear obstacles below the takeoff flight path.

Compliance

(e) Comply with this AD within the compliance times specified, unless already done.

Restatement of AD 2006-20-51:

Revision of the Airplane Flight Manual (AFM)

(f) Within 24 hours after October 16, 2006 (the effective date of 2006-20-51), revise the Certificate Limitations Section of the AFM to include the following statement. This may be done by inserting a copy of this AD into the AFM.

Use of reduced thrust takeoff ratings determined by either the assumed temperature method or the fixed de-rate method or a combination of both, is prohibited. Full-rated thrust must be used for takeoff.

Note 1: When a statement identical to that in paragraph (f) of this AD has been included in the general revisions of the AFM, the general revisions may be inserted into the AFM, and the copy of this AD may be removed from the AFM.

Special Flight Permit

(g) Special flight permits, as described in Section 21.197 and Section 21.199 of the Federal Aviation Regulations (14 CFR 21.197 and 21.199), are not allowed.

Alternative Methods of Compliance (AMOCs)

(h)(1) The Manager, Seattle Aircraft Certification Office (ACO), FAA, ATTN: Margaret Langsted, Aerospace Engineer, Propulsion Branch, ANM-140S, FAA, Seattle ACO, 1601 Lind Avenue, SW., Renton, Washington 98057-3356; telephone (425) 917-6500; fax (425) 917-6590; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(i) None.

Issued in Renton, Washington, on November 16, 2008.
Stephen P. Boyd,
Assistant Manager, Transport Airplane Directorate, Aircraft Certification Service.

[FR Doc. E8-28158 Filed 12-1-08; 8:45 am]

BILLING CODE 4910-13-P